DEPARTMENT OF COMMERCE

National Oceanic and Atmospheric Administration

Availability of Seats for the Hawaiian Islands Humpback Whale National Marine Sanctuary Advisory Council

AGENCY: National Marine Sanctuary Program (NMSP), National Ocean Service (NOS), National Oceanic and Atmospheric Administration (NOAA), Department of Commerce (DOC).

ACTION: This notice is to extend the previous notice and request for applications that was posted on November 15, 2003.

SUMMARY: The Hawaiian Islands Humpback Whale National Marine Sanctuary (HIHWNMS) is seeking applicants for the following vacant seats on its Sanctuary Advisory Council (Council): Maui County Alternate, Kaua'i County Alternate, Education Alternate, Fishing Alternate, Native Hawaiian Member, and Native Hawaiian Alternate. Applicants are chosen based upon their particular expertise and experience in relation to the seat for which they are applying; community and professional affiliations; philosophy regarding the protection and management of marine resources; and possibly the length of residence in Hawaii. Applicants who are chosen as members should expect to serve two-year terms, pursuant to the Council's Charter.

DATES: January 5, 2004.

ADDRESSES: Application kits may be obtained from Keeley Belva (888) 55-WHALE or via e-mail at: Keeley.Belva@noaa.gov. Applications are also available online at http://hawaiihumpbackwhale.noaa.gov. Completed applications should be mailed to the Hawaiian Islands Humpback Whale National Marine Sanctuary, 6700 Kalaniana'ole Highway, Suite 104, Honolulu, Hawaii 96825, faxed to (808) 397-2650, or returned via e-mail.

FOR FURTHER INFORMATION CONTACT: Keeley Belva (see above for contact information).

Authority: 16 U.S.C. 1431 et seq.

(Federal Domestic Assistance Catalog Number 11.429 Marine Sanctuary Program)
Dated: December 19, 2003.
Richard W. Spinrad,
Assistant Administrator, Ocean Services and Coastal Zone Management, National Oceanic and Atmospheric Administration.

[FR Doc. 03-32138 Filed 12-30-03; 8:45 am]

BILLING CODE 3510-NK-M